DEPARTMENT OF AGRICULTURE

Animal and Plant Health Inspection Service

[Docket No. APHIS-2006-0030]

National Animal Identification System (NAIS); Availability of a Revised Cooperative Agreement for Private Animal Tracking Databases

AGENCY: Animal and Plant Health Inspection Service, USDA.

ACTION: Notice of availability.

SUMMARY: This notice announces the availability of a revised cooperative agreement that organizations may enter into with the Animal and Plant Health Inspection Service in order to participate in the animal tracking database component of the National Animal Identification System (NAIS). This revised cooperative agreement is intended to facilitate the integration of private and State animal tracking databases into the NAIS, which remains a voluntary program.

FOR FURTHER INFORMATION CONTACT: Mr. Neil Hammerschmidt, National Coordinator, National Animal Identification System, VS, APHIS, 4700 River Road Unit 200, Riverdale, MD 20737-1231; (301) 734-5571.

SUPPLEMENTARY INFORMATION:

Background

As part of its ongoing efforts to safeguard animal health, the U.S. Department of Agriculture (USDA) initiated implementation of the National Animal Identification System (NAIS) in 2004. The NAIS is a cooperative State-Federal-industry program administered by USDA's Animal and Plant Health Inspection Service (APHIS). The main objective of the NAIS is to develop and implement a comprehensive information system which will support ongoing animal disease programs and enable State and Federal animal health officials to respond rapidly and effectively to animal health emergencies such as foreign animal disease outbreaks or emerging domestic diseases.

NAIS is a voluntary program and is being established through a phased-in approach by implementing three key components: Premises registration, animal identification, and animal tracking. The USDA has already developed information systems to support the first two components. The third component will be developed through a government/industry partnership, in which animal movement information will be maintained in private and/or State databases. USDA will operate a portal system that will enable animal health officials to submit requests for information to the animal tracking databases (ATDs) when investigating an animal disease event. The USDA's objective is to support the privatization of the animal tracking information component of the NAIS in the most practical, timely, and least burdensome manner possible.

On April 7, 2006, we published in the Federal Register (71 FR 17805-17806, Docket No. APHIS-2006-0030) a notice announcing the availability of three documents related to the NAIS: A document providing an update on the implementation plans, including operational milestones and participation goals; a document describing how private and State animal tracking databases (ATDs) may be integrated into the NAIS to provide animal health officials with animal movement information when conducting a disease investigation; and a template for a cooperative agreement (CA) that organizations that wish to participate in the ATD component of the NAIS may enter into with APHIS for that purpose.

The second of the three documents referred to above, entitled “Integration of Private and State Animal Tracking Databases with the NAIS; Interim Development Phase,” presented our initial plans for moving forward with the implementation of the Animal Trace Processing System (ATPS), a system for processing animal movement data. The document described a two-phase implementation plan, consisting of an interim/development phase, which began in 2006, and an implementation phase, which is targeted for early 2007. The document also provided data standards and basic technical requirements that databases must meet to be eligible for participation in the interim/development phase.

In order to participate in this interim/development phase, an organization with an ATD must complete a “Request for Evaluation of Interim Private/State Animal Tracking Database” to initiate an APHIS review of its system. If its system meets the interim requirements, the organization may then enter into a CA with APHIS. The CA provides for a government and industry collaborative process for the development of the technical details for the integration of private and State ATDs to ensure that animal health officials have the information when necessary to perform their duties. Entering into a CA does not imply that an organization's ATD will be eligible to participate in the NAIS as a fully compliant system after ATPS implementation is completed and final eligibility requirements are established.

Since the April 2006 notice, we have revised the CA. This notice announces the availability of the revised CA.

The revised CA may be viewed on the Internet at http://www.usda.gov/nais or on the Regulations.gov Web site.¹ You may request paper copies of the document by calling or writing to the person listed under FOR FURTHER INFORMATION CONTACT. Please refer to the title of the document (“Cooperative Agreement Between APHIS and Organizations with Qualifying Systems for Interim/Development Phase”) when requesting copies.

¹ To view the revised CA and the other documents referenced in this notice, go to http://www.regulations.gov, click on the “Advanced Search” tab, and select “Docket Search.” In the Docket ID field, enter APHIS-2006-0030, then click on “Submit.” Clicking on the Docket ID link in the search results page will produce a list of all documents in the docket.

Done in Washington, DC, this 20th day of July 2006.
Kevin Shea,
Acting Administrator, Animal and Plant Health Inspection Service.

[FR Doc. E6-12069 Filed 7-27-06; 8:45 am]

BILLING CODE 3410-34-P